DEPARTMENT OF TRANSPORTATION

Office of the Secretary

Notice of Applications for Certificates of Public Convenience and Necessity and Foreign Air Carrier Permits Filed Under Subpart B (Formerly Subpart Q) During the Week Ending October 15, 2011

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0190.

Date Filed: October 12, 2011.

Due Date for Answers, Conforming Applications, or Motion to Modify Scope: November 2, 2011.

Description: Application of Laser Airlines, C.A. (“Laser”) requesting an exemption and a foreign air carrier permit authorizing Laser to provide: (i) Scheduled foreign air transportation of persons, property and mail between Caracas, Venezuela (“CCS”), on the one hand, and Fort Lauderdale, Florida (“FLL”), on the other hand; and (ii) charter foreign air transportation of persons, property and mail between Maiquetia (“MIQ”), Valencia (“VLN”) and Margarita Island (“PMV”), Venezuela, on the one hand, and FLL, on the other hand, and other charter flights.

Renee V. Wright,
Program Manager, Docket Operations, Federal Register Liaison.

[FR Doc. 2011-28491 Filed 11-2-11; 8:45 am]

BILLING CODE 4910-9X-P